DEPARTMENT OF VETERANS AFFAIRS (VA)

President's Task Force To Improve Health Care Delivery for Our Nation's Veterans, Notice of Meeting

The Department of Veterans Affairs (VA) gives notice under Public Law 92-463 that a meeting of the President's Task Force to Improve Health Care Delivery for Our Nation's Veterans scheduled to take place on Wednesday, March 13, 2002, beginning at 8:00 a.m. until 5:30 p.m. The meeting will be held in the Horizon Ballroom, the Ronald Reagan Building International Trade Center, 1300 Pennsylvania Avenue, NW., Washington, DC, and is open to the public.

The purpose of the President's Task Force to Improve Health Care Delivery for Our Nation's Veterans is to:

(a) Identify ways to improve benefits and services for Department of Veterans Affairs (VA) beneficiaries and for Department of Defense (DoD) military retirees who are also eligible from VA, through better coordination of the activities of the two departments;

(b) Review barriers and challenges that impede VA and DoD coordination, including budgeting processes, timely billing, cost accounting, information technology, and reimbursement. Identify opportunities to improve such business practices to ensure high quality and cost effective health care; and

(c) Identify opportunities for improved resource utilization through partnership between VA and DoD to maximize the use of resources and infrastructure, including: buildings, information technology and data sharing systems, procurement of supplies, equipment and services, and delivery of care.

During this meeting, the Task Force work groups will continue to obtain current and updated information and to validate and/or clarify that information. The work groups will make presentations on the various topics to the members.

Interested parties can provide written comments to Mr. Dan Amon, Communications Director, President's Task Force to Improve Health Care Delivery for Our Nation's Veterans, 1401 Wilson Boulevard, 4th Floor, Arlington, Virginia, 22209.

Dated: March 5, 2002.
By direction of the Secretary.
Nora E. Egan,
Committee Management Officer.

[FR Doc. 02-6104 Filed 3-13-02; 8:45 am]

BILLING CODE 8320-01-M